DEPARTMENT OF HEALTH AND HUMAN SERVICES

Centers for Disease Control and Prevention

Ethics Subcommittee, Advisory Committee to the Director (ACD), Centers for Disease Control and Prevention (CDC)

In accordance with section 10(a)(2) of the Federal Advisory Committee Act (Pub. L. 92-463), CDC announces the following meeting for the aforementioned subcommittee:

Times and Dates:

1 p.m.-5:30 p.m., November 15, 2007.

8:30 a.m.-3:30 p.m., November 16, 2007.

Place: CDC, Century Center Campus, 1825 Century Boulevard, Conference Room 1 A/B, Atlanta, Georgia 30345.

Status: Open to the public, limited only by the space available. The meeting room accommodates approximately 70 people. To accommodate public participation in the meeting, a conference telephone line will be available. The public is welcome to participate during the public comment periods by calling (866) 919-3560 and entering code 4168828. The public comment periods are tentatively scheduled from 4:45 p.m.-5 p.m. on November 15, 2007 and from 3 p.m.-3:15 p.m. on November 16, 2007.

Purpose: The Ethics Subcommittee will provide counsel to the ACD, CDC regarding a broad range of public health ethics questions and issues arising from programs, scientists, and practitioners.

Matters to be Discussed: Agenda items will include: Ethical Guidance for Public Health Emergency Preparedness and Response; Ethical Guidance for Non-Research Data Collections; and Updates on Activities relating to CDC Partnerships, Genomics Best practices, and Pandemic Influenza Preparedness. Agenda items are subject to change as priorities dictate.

For security reasons, members of the public interested in attending the meeting should contact the person below. The deadline for notification of attendance is November 9, 2007.

Contact Person for More Information: Drue Barrett, Ph.D., Designated Federal Official, Ethics Subcommittee, CDC, 1600 Clifton Road, NE., M/S D-50, Atlanta, Georgia 30333. Telephone (404) 639-4690. E-mail: dbarrett@cdc.gov.

The Director, Management Analysis and Services Office, has been delegated the authority to sign Federal Register notices pertaining to announcements of meetings and other committee management activities, for both CDC and the Agency for Toxic Substances and Disease Registry.

Dated: October 15, 2007.
Elaine L. Baker,
Acting Director, Management Analysis and Services Office, Centers for Disease Control and Prevention (CDC).

[FR Doc. E7-20696 Filed 10-19-07; 8:45 am]

BILLING CODE 4163-18-P